DEPARTMENT OF TRANSPORTATION

Federal Aviation Administration

Notice of Intent to Rule on Request to Amend an Approved Application (96-02-C-00-SLC) to Impose and Use the Revenue From a Passenger Facility Charge (PFC) at Salt Lake City International Airport, Submitted by the Salt Lake City Department of Airports, Salt Lake City, Utah

AGENCY: Federal Aviation Administration (FAA), DOT.

ACTION: Notice of Intent to Rule on a Request to Amend an approved PFC application.

SUMMARY: The FAA proposes to rule and invites public comment on the request to amend the approved application to impose and use PFC revenue at the Salt Lake City International Airport under the provisions of 49 U.S.C. 40117 and Part 158 of the Federal Aviation Regulations (14 CFR 158).

DATES: Comments must be received on or before December 11, 2000.

ADDRESSES: Comments on this request may be mailed or delivered in triplicate to the FAA at the following address: Mr. Alan E. Wiechmann, Manager; Denver Airports District Office, DEN-ADO, Federal Aviation Administration; 26805 East 68th Avenue, Suite 224, Denver, Colorado 80249.

In addition, one copy of any comments submitted to the FAA must be mailed or delivered to Mr. Timothy L. Campbell, Executive Director, at the following address: Salt Lake City Corporation—Department of Airports, 776 N. Terminal Drive, TUI, Suite 250, P.O. Box 22084, Salt Lake City, UT 84122.

Air Carriers and foreign air carriers may submit copies of written comments previously provided to the Salt Lake City Department of Airports, under section 158.23 of Part 158.

FOR FURTHER INFORMATION CONTACT: Mr. Christopher J. Schaffer, (303) 342-1258, 26805 East 68th Avenue, Suite 224, Denver, Colorado 80249. The request may be reviewed in person at this same location.

SUPPLEMENTARY INFORMATION: The FAA proposes to rule and invites public comment on the request to amend the application (96-02-C-00-SLC) to impose and use PFC revenue at the Salt Lake City International Airport, under the provisions of 49 U.S.C. 40117 and Part 158 of the Federal Aviation Regulations (14 CFR Part 158).

On October 2, 2000, the FAA received the request to amend the application to impose and use the revenue from a PFC, submitted by the Salt Lake City Airport Authority, within the requirements of section 158.25 of Part 158. The FAA will approve or disapprove the amendment no later than January 30, 2001.

The following is a brief overview of the application.

Proposed increase in PFC level: From $3.00 to $4.50.

Proposed charge-effective date: April 1, 2001.

Total requested for use approval: $61,883,000.

Class or classes of air carriers which the public agency has requested not be required to collect PFC's: All air taxi/commercial operators filing or required to file FAA Form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the request to amend an approved application in person at Salt Lake City International Airport.

Issued in Renton, Washington on October 30, 2000.
David A. Field,
Manager, Planning, Programming and Capacity Branch, Northwest Mountain Region.

[FR Doc. 00-28737 Filed 11-8-00; 8:45 am]

BILLING CODE 4910-13-M